DEPARTMENT OF ENERGY

Federal Energy Regulatory Commission

[Docket Nos. RP00-491-002, RP02-188-001, and CP01-69-005]

Petal Gas Storage, L.L.C.; Notice of Compliance Filing

June 3, 2002.

Take notice that on May 28, 2002, Petal Gas Storage, L.L.C. (Petal), tendered for filing as part of its FERC Gas Tariff, Original Volume No. 1, Original Sheet No. 11A. Petal requests that this sheet be made effective May 1, 2002.

Petal states that the tariff sheet is being filed in compliance with the Commission's May 1, 2002 Letter Order in the above-referenced proceeding, which relates to Petal's compliance with Order No. 637.

Petal states that copies of the filing have been mailed to all affected customers and state regulatory commissions.

Any person desiring to protest said filing should file a protest with the Federal Energy Regulatory Commission, 888 First Street, NE, Washington, DC 20426, in accordance with Section 385.211 of the Commission's Rules and Regulations. All such protests must be filed on or before June 10, 2002. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-14424 Filed 6-7-02; 8:45 am]

BILLING CODE 6717-01-P